DEPARTMENT OF LABOR

Employment and Training Administration

[TA-W-62,971]

Southern Furniture, Inc., Conover, NC; Notice of Termination of Investigation

Pursuant to Section 221 of the Trade Act of 1974, as amended, an investigation was initiated on March 7, 2008 in response to a petition filed by a company official on behalf of workers of Southern Furniture, Inc., Conover, North Carolina.

The petitioner has requested that the petition be withdrawn. Consequently, the investigation has been terminated.

Signed at Washington, DC, this 1st day of April 2008.
Elliott S. Kushner,
Certifying Officer, Division of Trade Adjustment Assistance.

[FR Doc. E8-7730 Filed 4-10-08; 8:45 am]

BILLING CODE 4510-FN-P